DEPARTMENT OF TRANSPORTATION

Federal Aviation Administration

Eighty Fifth RTCA Meeting of Special Committee 147 (Joint Plenary Session With EUROCAE WG-75)

AGENCY: Federal Aviation Administration (FAA), U.S. Department of Transportation (DOT).

ACTION: Eighty Fifth RTCA Meeting of Special Committee 147 (Joint Plenary Session with EUROCAE WG-75).

SUMMARY: The FAA is issuing this notice to advise the public of a meeting of Eighty Fifth RTCA Meeting of Special Committee 147 (Joint Plenary Session with EUROCAE WG-75). SC-147 is a subcommittee to RTCA.

DATES: The meeting will be held September 21, 2017, 9:00 a.m.-4:30 p.m.

ADDRESSES: The meeting will be held at: RTCA Headquarters, 1150 18th Street NW., Suite 910, Washington, DC 20036.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eighty Fifth RTCA Meeting of Special Committee 147 (Joint Plenary Session with EUROCAE WG-75). The agenda will include the following:

September 21, 2017, 9:00 a.m.-4:30 p.m.

1. Opening Plenary Session—Co-Chairs

A. Chairmen's Opening Remarks/Introductions

B. RTCA Federal Advisory Act and Proprietary Material Policies Review

C. Approval of Minutes From 84th Meeting of SC-147

D. Approval of Minutes From June 2017 Joint Working Group Meeting

E. Approval of Agenda

F. Future Meeting Scheduling

2. Report From WG-75

3. SESAR Updates

4. Working Group Reports

A. Report From Coordination Subgroup

B. Report From Threat Resolution Working Group

C. Report From Surveillance Working Group

D. Report From ACAS Xu Subgroup

5. CAS Interoperability MASPS: Status, Schedule, and SC-147 TORS

6. Status Of Mitigations for Transponder Failures

7. ACAS XA/XO MOPS Schedule Review

8. Other Business

9. New Business

10. Closing Session

A. Scheduling of Future Meetings

B. Review of Actions/Decisions

C. Closing Remarks

D. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15599 Filed 7-25-17; 8:45 am]

BILLING CODE 4910-13-P